DEPARTMENT OF DEFENSE

Office of the Secretary

Meeting of the Secretary's Defense Advisory Board (DAB) for Employer Support of the Guard and Reserve (ESGR); Change in Location

AGENCY: Department of Defense.

ACTION: Notice.

SUMMARY: The Department of Defense published an announcement of a meeting of the Secretary's Defense Advisory Board (DAB) for Employer Support of the Guard and Reserve on June 3, 2004 (69 FR 31370). This notice announces a change in location for the first day of the meeting as follows: Day 2: June 26, 2004—Hilton Hotel, 2399 Jefferson Davis Hwy, Arlington, VA 22202; P.O.C: Tanya, 703-418-6800.

All other information remains unchanged.

Dated: June 23, 2004.
L.M. Bynum,
Alternate OSD Federal Register Liaison Officer,

[FR Doc. 04-14645 Filed 6-23-04; 3:37 pm]

BILLING CODE 5001-06-M